DEPARTMENT OF THE INTERIOR

Bureau of Land Management

[CA-930-1430-ET; CACA 8155]

Public Land Order No. 7525; Partial Opening of Federal Power Commission Order Dated September 26, 1951; California

AGENCY: Bureau of Land Management, Interior.

ACTION: Public land order.

SUMMARY: This order opens, subject to the provisions of Section 24 of the Federal Power Act, 40 acres of National Forest System land withdrawn for Power Project No. 2088 by the Federal Power Commission Order dated September 26, 1951. This action will allow for disposal of the land by exchange and retain the power rights to the United States.

DATES: July 18, 2002.

FOR FURTHER INFORMATION CONTACT: Duane Marti, BLM California State Office, 2800 Cottage Way, Sacramento, California 95825, 916-978-4675.

SUPPLEMENTARY INFORMATION: By virtue of the authority vested in the Secretary of the Interior by the Act of June 10, 1920, Section 24, as amended, 16 U.S.C. 818 (1994), and pursuant to the determination by the Federal Energy Regulatory Commission in DVCA-1245-000, it is ordered as follows:

At 8:30 a.m. on July 18, 2002, the following described land, withdrawn by the Federal Power Commission Order dated September 26, 1951, for Power Project No. 2088, will be opened to disposal by land exchange, subject to the provisions of Section 24 of the Federal Power Act, and subject to valid existing rights, the provisions of existing withdrawals, other segregations of record, and the requirements of applicable law:

Mount Diablo Meridian

T. 21 N., R. 8 E.,

sec. 32, NE¼SW¼.

The area described contains 40 acres in Plumas County.

Dated: May 10, 2002.
Rebecca W. Watson,
Assistant Secretary—Land and Minerals Management.

[FR Doc. 02-15312 Filed 6-17-02; 8:45 am]

BILLING CODE 3410-11-P